DEPARTMENT OF TRANSPORTATION

Federal Aviation Administration

[Docket No. ANE-2003-35-1-R0]

Policy for Ice Protection Equipment

AGENCY: Federal Aviation Administration, DOT.

ACTION: Notice of proposed policy statement; request for comments.

SUMMARY: The Federal Aviation Administration (FAA) announces the availability of proposed policy for Ice Protection Equipment.

DATES: Comments must be received by December 15, 2004.

ADDRESSES: Send all comments on the proposed policy to the individual identified under FOR FURTHER INFORMATION CONTACT.

FOR FURTHER INFORMATION CONTACT: Jay Turnberg, FAA, Engine and Propeller Standards Staff, ANE-110, 12 New England Executive Park, Burlington, MA 01803; e-mail: jay.turnberg@faa.gov; telephone: (781) 238-7116; fax: (781) 238-7199. The policy statement is available on the Internet at the following address: http://www.airweb.faa.gov/rgl. If you do not have access to the Internet, you may request a copy of the policy by contacting the individual listed in this section.

SUPPLEMENTARY INFORMATION:

Comments Invited

The proposed policy statements are available on the Internet at the following address: http://www.faa.gov/certification/aircraft/enginedraftpolicyby.htm. If you do not have access to the Internet, you may request a copy of the proposed policies by contacting the individual listed under FOR FURTHER INFORMATION CONTACT. The FAA invites interested parties to comment on the proposed policies. Comments should identify the subject of the proposed policy and be submitted to the individual identified under FOR FURTHER INFORMATION CONTACT. The FAA will consider all comments received by the closing date before issuing the final policies.

Background

The certification of the propeller ice protection system involves an overlap between airplane and propeller requirements. The airplane is required to meet the icing requirements of parts 23 or 25, whereas the propeller is required to meet the applicable structural and durability requirements of part 35. This overlap in certification requirements between two certified products, airplanes and propellers, has led to confusion over the configuration and quality control responsibility for the certificate holders. For example a deicing system shown on a propeller type certificate data sheet does not mean that compliance with part 23 icing requirements was shown.

This proposed policy provides guidance for compliance with parts 21, 23, 25, and 35 of Title 14 of the Code of Federal Regulations. The proposed policy clarifies configuration and quality control responsibilities for certificate holders and parts suppliers involved with propeller ice protection systems. This proposed policy does not create any new requirements.

[Authority: 49 U.S.C. 106(g), 40113, 44701-44702, 44704.]

Issued in Burlington, Massachusetts, on October 15, 2004.
Jay J. Pardee,
Manager, Engine and Propeller Directorate, Aircraft Certification Service.

[FR Doc. 04-23860 Filed 10-25-04; 8:45 am]

BILLING CODE 4910-13-M